DEPARTMENT OF HOUSING AND URBAN DEVELOPMENT

[Docket No. FR-5043-N-11]

Notice of Proposed Information Collection for Public Comment: Survey of Agencies Receiving Funding Under HUD's Fair Housing Initiative Program (FHIP)

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: February 9, 2007.

ADDRESSES: Interested persons are invited to submit comments regarding this proposal. Comments should refer to the proposal by name and/or OMB Control number and should be sent to: Report Liaison Officer, Office of Policy Development and Research, Department of Housing and Urban Development, 451 7th Street, SW., Room 8226, Washington, DC 20410-5000.

FOR FURTHER INFORMATION CONTACT: Todd M. Richardson, (202) 708-3700, extension 5706, (this is not a toll-free number) for copies of the proposed forms and other available documents.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Survey of Agencies Receiving Funding Under HUD's Fair Housing Initiative Program (FHIP)

Description of the need for the information and proposed use: This request is for the clearance of a survey instrument designed to provide a broad, statistically accurate picture of the activities of FHIP agencies nationwide. This survey would be based on the population of approximately 168 FHIP agencies. The purpose of the survey is to characterize the nature of the organizations that receive FHIP grants and the types of activities they undertake. The proposed survey includes questions on agency size, budget, mission, experience, governance/administrative structure, staff, and funding history. The proposed survey will also look specifically at the grantee's process of implementing its FHIP grant.

OMB Approval Number: Pending.

Agency form numbers: None.

Members of Affected Public: FHIP Agencies.

Estimation of the total number of hours needed to prepare the information collection including number of respondents, frequency of response, and hours of response: 168 FHIP agencies will be surveyed. Average time to complete the survey is 45 minutes. Respondents will only be contacted once. Total burden hours are 126.

Status of the proposed information collection: New.

Authority: Section 3506 of the Paperwork Reduction Act of 1995, 44 U.S.C. Chapter 35, as amended.

Date: December 1, 2006.
Darlene F. Williams,
Assistant Secretary for Policy Development and Research.

[FR Doc. E6-20934 Filed 12-8-06; 8:45 am]

BILLING CODE 4210-67-P